DEPARTMENT OF THE INTERIOR

National Park Service

Notice of Inventory Completion: Colorado Historical Society, Denver, CO

AGENCY: National Park Service, Interior.

ACTION: Notice.

Notice is here given in accordance with the Native American Graves Protection and Repatriation Act (NAGPRA), 25 U.S.C. 3003, of the completion of an inventory of human remains and associated funerary objects in the control of the Colorado Historical Society, Denver, CO. The human remains and associated funerary objects were removed from Adams, Douglas, Jefferson, Las Animas, Larimer, Pueblo, and Weld Counties, CO.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

In 2006 and 2009, a detailed assessment of the human remains and associated funerary objects was made by Colorado Historical Society professional staff in consultation with representatives of the Arapahoe Tribe of the Wind River Reservation, Wyoming; Cheyenne and Arapaho Tribes, Oklahoma (formerly Cheyenne and Arapaho Tribes of Oklahoma); Comanche Nation, Oklahoma; Crow Tribe of Montana; Hopi Tribe of Arizona; Jicarilla Apache Nation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico (formerly the Pueblo of San Juan); Paiute Indian Tribe of Utah (Cedar City Band of Paiute, Kanosh Band of Paiutes, Koosharem Band of Paiutes, Indian Peaks Band of Paiutes, and Shivwits Band of Paiutes); Pawnee Nation of Oklahoma; Pueblo of Acoma, New Mexico; Pueblo of Cochiti, New Mexico; Pueblo of Isleta, New Mexico; Pueblo of Jemez, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Tesuque, New Mexico; Pueblo of Zia, New Mexico; Rosebud Sioux Tribe of the Rosebud Indian Reservation, South Dakota; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; and Zuni Tribe of the Zuni Reservation, New Mexico.

In August 1998, human remains representing a minimum of one individual were removed from private land in Weld County, CO (Office of Archaeology and Historic Preservation (OAHP) Case Number 153). The human remains were inadvertently discovered while a private citizen was excavating a house foundation and the burial context was destroyed by the backhoe. The human remains were removed by the Weld County Coroner. In November 2001, the human remains were transferred to the Colorado Historical Society. No known individual was identified. No associated funerary objects are present.

The antiquity, age and sex of the individual are unknown.

In June 1999, human remains representing a minimum of one individual were removed from private land in Pueblo County, CO (OAHP Case Number 162). The human remains were exposed by the flooding of the St. Charles River west of Pueblo, and were found against the wall of a canyon, at the edge of the floodplain. A burial investigation was conducted by staff from OAHP with a representative of the Colorado Commission of Indian Affairs present. No known individual was identified. No associated funerary objects are present.

The human remains represent a Native American female estimated to be 20-25 years of age. The estimated antiquity of the human remains is unknown.

In December 2000, human remains representing a minimum of one individual were removed from private land in Adams County, CO (OAHP Case Number 186). The human remains were inadvertently discovered while excavating a new home site in a housing development, which destroyed the burial context. Assessment of the site was conducted by the Adams County Sheriff's Department. In January 2001, the human remains were transferred to the Colorado Historical Society. No known individual was identified. No associated funerary objects are present.

The antiquity, age and sex of the individual are unknown.

In March 2001, human remains representing a minimum of one individual were removed from private land in Las Animas County, CO (OAHP Case Number 191; 5LA.9871). The human remains were inadvertently discovered by private citizens who observed them eroding from a hillside. A burial investigation was conducted by the Las Animas County Sheriff's Office, who removed additional skeletal elements. In June 2001, the human remains were transferred to the Colorado Historical Society. No known individual was identified. The four associated funerary objects are one polished deer antler and three non-human bones.

The human remains represent a Native American male between 35-45 years old. The estimated antiquity of the human remains is unknown.

In 1977, human remains representing a minimum of one individual were removed from the Torres Site (5LA.1310) on private land in Las Animas County, CO (OAHP Case Number 192). In 1977, the site was excavated by the Colorado Archaeological Society. In 2000, the human remains were found in the collections of the Colorado Historical Society. No known individual was identified. No associated funerary objects are present.

Artifacts recovered from the site, but not associated with the individual, suggest a date of A.D. 900-1050 for the site, which belongs to the Graneros or Apishapa culture. The age and sex of the individual are unknown.

In August 2001, human remains representing a minimum of two individuals were removed from state land in Douglas County, CO (OAHP Case Number 194; 5DA.1687). The human remains were inadvertently discovered during the construction of the Reuter-Hess Reservoir. A burial investigation was conducted by staff from the URS Corporation. In November 2002, the human remains were transferred to the Colorado Historical Society. No known individuals were identified. The 11 associated funerary objects are 1 bone bead necklace, 1 freshwater mollusk shell fragment, 1 petrified wood uniface, 1 quartzite tertiary flake, 5 petrified wood flakes, and 2 quartzite flakes.

The human remains represent a Native American female (12-18 years old) and a Native American subadult (sex unknown, 6-8 years old). The estimated antiquity of the human remains is A.D. 850-1150.

In November 2001, human remains representing a minimum of one individual were removed from private land in Pueblo County, CO (OAHP Case Number 199; 5PE.4229). The human remains were inadvertently discovered by workers in the bottom of a commercial gravel pit. The area where the human remains had washed out of the gravel was located, and a burial investigation was conducted by OAHP staff, but no further skeletal elements were recovered. In November 2001, the human remains were transferred to the Colorado Historical Society. No known individual was identified. No associated funerary objects are present.

The antiquity, age and sex of the individual are unknown.

In July 2002, human remains representing a minimum of one individual were removed from private land in Las Animas County, CO (OAHP Case Number 206). The human remains were inadvertently discovered by two private citizens in a collapsed basement wall of a home. A site investigation was conducted by the Las Animas County Coroner and the Archaeology Director of Louden Heinritze Museum, who excavated additional skeletal elements. In December 2002, the human remains were transferred to the Colorado Historical Society. No known individual was identified. No associated funerary objects are present.

The human remains represent an elderly Native American female. The estimated antiquity of the human remains is unknown.

In March 1978, human remains representing a minimum of one individual were removed from private land in Arvada, Jefferson County, CO (OAHP Case Number 207). The human remains were inadvertently discovered by a private citizen on his property, during home construction. Officers from the Arvada Police Department were notified and took the human remains into custody. After determining them to be archeological, the Arvada Police delivered them to the Arvada Center to await transfer to the Colorado Native American Heritage Council. The human remains were overlooked and inadvertently discovered in a collections storage area of the Arvada Center in 2003. In November 2003, the human remains were transferred to the Colorado Historical Society. No known individual was identified. No associated funerary objects are present.

The human remains represent a Native American female, 18-24 years of age. The estimated antiquity of the human remains is unknown.

In May 2004, human remains representing a minimum of one individual were removed from municipal land in Adams County, CO (OAHP Case Number 218; 5AM.1733). The human remains were inadvertently discovered by road construction workers. CDOT archeologists conducted the burial investigation. No known individual was identified. The two associated funerary objects are projectile points.

The human remains represent a Native American adult male. Projectile points and radiocarbon dating of charcoal suggest a date of 206040 B.P.

In October 2004, human remains representing a minimum of one individual were removed from private land in Weld County, CO (OAHP Case Number 224; 5WL.4840). The human remains were inadvertently discovered by workers in a gas pipeline trench. A burial investigation was conducted by University of Northern Colorado staff, who removed the remaining skeletal elements. In November 2004, the human remains were transferred to the Colorado Historical Society. No known individual was identified. No associated funerary objects are present.

The human remains represent a Native American adult female. Charcoal associated with the burial was dated to A.D. 690.

In May 2005, human remains representing a minimum of one individual were removed from private land in Weld County, CO (OAHP Case Number 229; 5WL.4883). The human remains were inadvertently discovered on eroded lands adjacent to a campground, and a burial investigation was conducted by OAHP staff. In May 2005, the human remains were transferred to the Colorado Historical Society. No known individual was identified. No associated funerary objects are present.

The human remains represent a Native American adult female, approximately 30 years of age. The estimated antiquity of the human remains is unknown.

Sometime prior to 2006, human remains representing a minimum of two individuals were removed from private land in Buffman Canyon, Larimer County, CO (OAHP Case Number 238; 5LR11716 and 5LR.11717). The landowner conducted the burial investigations and later transferred the human remains to Colorado State University in April 2006. In July 2007, the human remains were transferred to Colorado Historical Society. No known individuals were identified. No associated funerary objects are present.

The human remains represent one Native American female, approximately 45 years old and one Native American male, approximately 35 years old. The female was inadvertently discovered while constructing a house and the male was discovered during quarrying operations by the landowner. The estimated antiquity of the human remains is unknown.

In December 2006, human remains representing a minimum of one individual were removed from private land in Douglas County, CO (OAHP Case Number 245). The human remains were inadvertently discovered while backfilling a large utility trench, and the burial context was destroyed. In February 2007, the human remains were transferred to the Colorado Historical Society. No known individual was identified. No associated funerary objects are present.

The human remains represent a young Native American male. The estimated antiquity of the human remains is unknown.

In March 2004, human remains representing a minimum of one individual were removed from private land in Douglas County, CO (OAHP Case Number 248). The human remains were inadvertently discovered while digging a house foundation trench in Parker. A burial investigation was conducted by the Douglas County Coroner's Office. In April 2007, the human remains were transferred to the Colorado Historical Society. No known individual was identified. No associated funerary objects are present.

The human remains represent a Native American female, 40-60 years old. The estimated antiquity of the human remains is unknown.

In December 2008, human remains representing a minimum of one individual were removed from private land in Weld County, CO (OAHP Case Number 266; 5WL.5995). The human remains were inadvertently discovered while digging a trench to repair a gas pipeline. The burial context had been greatly disturbed. A burial investigation was conducted by OAHP staff, who removed additional skeletal elements. In February 2009, the human remains were transferred to the Colorado Historical Society. No known individuals were identified. The four associated funerary objects are three bifaces and one flake.

The human remains represent a Native American male, 40-50 years of age. The estimated antiquity of the human remains is unknown.

Insufficient geographical, kinship, biological, archeological, linguistic, folkore, oral tradition, historical evidence or other information or expert opinion exists to reasonably establish cultural affiliation of the above individuals with any present-day Indian tribe, although physical anthropological evidence supports Native American identity.

Officials of the Colorado Historical Society have determined that, pursuant to 25 U.S.C. 3001 (9-10), the human remains described above represent the physical remains of 18 individuals of Native American ancestry. Officials of the Colorado Historical Society also have determined that, pursuant to 25 U.S.C. 3001 (3)(A), the 21 objects described above are reasonably believed to have been placed with or near individual human remains at the time of death or later as part of the death rite or ceremony. Lastly, officials of the Colorado Historical Society have determined that, pursuant to 25 U.S.C. 3001 (2), a relationship of shared group identity cannot be reasonably traced between the Native American human remains and associated funerary objects and any present-day Indian tribe.

The Colorado Historical Society has determined that the human remains are “culturally unidentifiable” under NAGPRA, 43 CFR 10.9 (e)(6). Federal regulations currently preclude disposition of culturally unidentifiable human remains absent an overriding legal requirement or a recommendation from the Secretary of the Interior, 43 CFR 10.9 (e)(6). In 2006, the Colorado Historical Society, in partnership with the Colorado Commission of Indian Affairs, Southern Ute Indian Tribe of the Southern Ute Reservation, Colorado, and Ute Mountain Tribe of the Ute Mountain Reservation, Colorado, New Mexico & Utah conducted tribal consultations among the tribes with ancestral ties to the State of Colorado to develop the process for disposition of culturally unidentifiable Native American human remains and associated funerary objects originating from inadvertent discoveries on Colorado State and private lands. As a result of the consultation, a process was developed, Process for Consultation, Transfer, and Reburial of Culturally Unidentifiable Native American Human Remains and Associated Funerary Objects Originating From Inadvertent Discoveries on Colorado State and Private Lands, (2008), (unpublished, on file with the Colorado Office of Archaeology and Historic Preservation). The Native American human remains and associated funerary objects described above originated from inadvertent discoveries on Colorado State and private lands in Adams, Douglas, Jefferson, Las Animas, Larimer, Pueblo, and Weld Counties, CO, and are located in the Great Plains Consultation Region, established by the Process.

The Native American Graves Protection and Repatriation Review Committee (Review Committee) is responsible for recommending specific actions for disposition of culturally unidentifiable human remains. On November 3-4, 2006, the Process was presented to the Review Committee for consideration. A January 8, 2007, letter on behalf of the Review Committee from the Designated Federal Officer transmitted the provisional authorization to proceed with the Process upon receipt of formal responses from the Jicarilla Apache Nation, New Mexico and Kiowa Indian Tribe of Oklahoma, subject to forthcoming conditions imposed by the Secretary of the Interior. On May 15-16, 2008, the responses from the Jicarilla Apache Nation, New Mexico and Kiowa Indian Tribe of Oklahoma were submitted to the Review Committee. On September 23, 2008, the Assistant Secretary for Fish and Wildlife and Parks, as the designee for the Secretary of the Interior, transmitted the authorization for the disposition of culturally unidentifiable human remains according to the Process and NAGPRA, pending publication of a Notice of Inventory Completion in the Federal Register. This notice fulfills that requirement.

Representatives of any other Indian tribe that believes itself to be culturally affiliated with the human remains and/or associated funerary objects should contact Sheila Goff, NAGPRA Liaison, Colorado Historical Society, 1300 Broadway, Denver, CO 80203, telephone (303) 866-4531, before June 8, 2009. Disposition of the human remains and associated funerary objects to the Southern Ute Indian Tribe of the Southern Ute Reservation, Colorado, and Ute Mountain Tribe of the Ute Mountain Reservation Colorado, New Mexico & Utah may proceed after that date if no additional claimants come forward.

The Colorado Historical Society is responsible for notifying the Apache Tribe of Oklahoma; Arapahoe Tribe of the Wind River Reservation of Wyoming; Cheyenne and Arapaho Tribes, Oklahoma; Cheyenne River Sioux Tribe of the Cheyenne River Reservation, South Dakota; Comanche Nation, Oklahoma; Crow Creek Sioux Tribe of the Crow Creek Reservation, South Dakota; Crow Tribe of Montana; Fort Sill Apache Tribe of Oklahoma; Hopi Tribe of Arizona; Jicarilla Apache Nation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Ohkay Owingeh, New Mexico; Paiute Indian Tribe of Utah; Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Rosebud Sioux Tribe of the Rosebud Indian Reservation, South Dakota; San Juan Southern Paiute Tribe of Arizona; Shoshone-Bannock Tribes of the Fort Hall Reservation of Idaho; Shoshone Tribe of the Wind River Reservation, Wyoming; Southern Ute Indian Tribe of the Southern Ute Indian Reservation, Colorado; Standing Rock Sioux Tribe of North & South Dakota; Three Affiliated Tribes of the Fort Berthold Reservation, North Dakota; Ute Indian Tribe of the Uintah & Ouray Reservation, Utah; Ute Mountain Ute Tribe of the Ute Mountain Reservation, Colorado, New Mexico & Utah; Wichita and Affiliated Tribes (Wichita, Keechi, Waco & Tawakoni), Oklahoma; Ysleta del Sur Pueblo of Texas; and Zuni Tribe of the Zuni Reservation, New Mexico that this notice has been published.

Dated: April 13, 2009.
Sherry Hutt,
Manager, National NAGPRA Program.

[FR Doc. E9-10539 Filed 5-6-09; 8:45 am]

BILLING CODE 4312-50-S